DEPARTMENT OF HEALTH AND HUMAN SERVICES

Administration for Children and Families

[Program Announcement No. ACF/ACYF/HS-UP, EHS-UP&HSGS 2002-03]

Fiscal Year 2002 Discretionary Announcement for Head Start-University Partnerships Research Projects, Early Head Start-University Partnerships Research Projects, and Head Start Graduate Student Research Grants; Availability of Funds and Request for Applications

AGENCY: Administration on Children, Youth and Families (ACYF), ACF, DHHS.

ACTION: Announcement of the availability of funds and request for applications for research by university faculty or other nonprofit institutions (Priority Areas 1.01 and 1.02) and doctoral level graduate students (Priority Area 1.03) in partnership with Head Start programs.

SUMMARY: The Administration for Children and Families (ACF), Administration on Children, Youth and Families (ACYF) and Office of Planning, Research and Evaluation (OPRE) announce the availability of funds for three initiatives: Priority Area 1.01: Head Start-University Partnerships for research activities to develop and test models that use child outcomes to support continuous program improvement in local Head Start programs; Priority Area 1.02: Early Head Start-University Partnerships for research activities to support the development of infant-toddler mental health; Priority Area 1.03: Graduate Student Research Grants to support field-initiated research activities.

DATES: The closing time and date for receipt of applications is 5 p.m. (Eastern Time Zone), May 3, 2002. Applications received after 5 p.m. on the deadline date will be classified as late.

ADDRESSES: Mail applications to: Head Start Research Support Team, 1749 Old Meadow Road, Suite 600, McLean, VA 22102.

Hand delivered, courier or overnight delivery applications are accepted during the normal working hours of 8:00 a.m. to 5:00 p.m., Monday through Friday, on or prior to the established closing date.

All packages should be clearly labeled as follows:

Application for Head Start-University Partnerships, or

Application for Early Head Start-University Partnerships, or

Application for Head Start Graduate Student Grants, as appropriate.

FOR FURTHER INFORMATION CONTACT: The Head Start Research Support Technical Assistance Team (1-877) 663-0250, is available to answer questions regarding application requirements and to refer you to the appropriate contact person in ACYF for programmatic questions. You may e-mail your questions to: hsr@xtria.com.

In order to determine the number of expert reviewers that will be necessary, if you are going to submit an application, you must send a post card, call or e-mail with the following information: the name, address, telephone and fax number, e-mail address of the principal investigator, and the name of the university or non-profit institution at least four weeks prior to the submission deadline date to:

Head Start Research Support Team, 1749 Old Meadow Road, Suite 600, McLean, VA 22102. (1-877) 663-0250.

E-mail hsr@xtria.com.

Part I. Purpose and Background

A. Purpose

The purpose of this announcement is to announce the availability of funds for three initiatives: Priority Area 1.01: Head Start-University Partnerships for research activities to develop and test models that use child outcomes to support continuous program improvement in local Head Start programs; Priority Area 1.02: Early Head Start-University Partnerships for research activities to support the development of infant-toddler mental health; Priority Area 1.03: Graduate Student Research Grants to support field-initiated research activities.

B. Background

Priority 1.01: Head Start-University Partnerships

In 2001, Head Start marked the sixth year of implementing its system of Program Performance Measures. From initial planning in 1995 to the ongoing data collection on a second national cohort of Head Start children that began in fall 2000, Head Start has made dramatic progress in developing an outcome-oriented accountability system. This approach combines nationally representative data on programs, families, and children with program-level reporting and monitoring and is based on a consensus-driven set of criteria for program accountability.

Specifically, the Program Performance Measures were developed in accordance with the recommendations of the Advisory Committee on Head Start Quality and Expansion, the mandate of section 641A(b) of the Head Start Act (42 USC 9831 et seq.) as reauthorized in 1994, and the Government Performance and Results Act (GPRA) of 1993 (Pub. L. 103-62). In fall 1997, Head Start launched the Family and Child Experiences Survey (FACES), a study with a nationally representative sample of 3200 children and families in 40 Head Start programs. FACES describes the characteristics, experiences and outcomes for children and families served by Head Start, and also observes the relationships among family, staff, and program characteristics and child outcomes. Continuing with a second nationally representative sample in fall 2000, FACES now provides Head Start with the ability to examine all facets of key outcomes and children's school readiness on an ongoing basis. For further information see http://www.acf.dhhs.gov/programs/core/ongoing_research/faces/faces_intro.html.

The reauthorization of Head Start in 1998 further specified child outcomes that local programs should use in their self-assessments and that should be reviewed as part of the monitoring process. In two information memoranda (ACYF-IM-00-03, January 31, 2000 and ACYF-IM-00-18, August 10, 2000) Head Start outlined the legislative changes and provided guidance on the use of child outcomes in program self-assessments. As part of the second memorandum, the Head Start Bureau provided a Child Outcomes Framework of eight Domains based on the Head Start Program Performance Standards: Language Development, Literacy, Mathematics, Science, Creative Arts, Social and Emotional Development, Approaches Toward Learning, and Physical Health and Development. Programs are expected to ensure that their system for ongoing assessment of children includes collection of data in each of these Domains. In addition, because they are legislatively mandated, programs must gather and analyze data on certain specific Domain Elements or Indicators of progress in language, literacy, and numeracy skills. For further information see: http://www.hskids-tmsc.org/publications/im00/im00_18.htm.

Under these new accountability requirements, local programs must develop a system to analyze data on child outcomes that centers on patterns of progress for groups of children over the course of the Head Start year. At a minimum, data analysis should compare progress when children enter the program, at a mid-point, and when they complete the program year. In most programs, analysis of child outcomes should be based on data from all children enrolled, but approaches that include representative sampling of children can also be considered. Child assessment should provide objective, accurate, consistent and credible information, including ensuring that tools are appropriate in terms of age, language, and cultural background. Grantees should fully include children with identified disabilities in the child assessment system, with appropriate accommodation of the assessment tool(s). Training and oversight for personnel who administer assessments, record progress, and analyze and report on data are key to ensure quality and usefulness. Strategies for incorporating data on patterns of child outcomes into overall program self-assessment and reporting are also addressed in the guidance.

These requirements call for programs to develop, refine and maintain systems which meet requirements both for individualizing services to meet child and family needs, and for providing information for improving services. The overall goal of the child assessment initiative is to create improved learning environments for children served by Head Start. Through the National Leadership Conference held in December 2000, and a number of subsequent leadership and training and technical assistance conferences, the Head Start Bureau has further specified its expectations for grantees.

This new initiative creates an opportunity for building model partnerships between program staff and researchers based in universities and other non-profit research institutions. Grantees are experts on the available strengths and needs of their families and communities, as well as the particular histories of their programs. Grantees can usually benefit from technical expertise in all aspects of the initiative, from selection of assessment tools appropriate for their curriculum, methods for administering assessments, methods for measuring classroom quality, approaches for data entry and management, techniques for data analysis, and of course, training of staff who will be responsible for each phase. Such partnerships necessitate that researchers become familiar with the goals, approaches, and existing systems of grantee self-assessment and child assessment, and build on these to develop logic models or theories of change. They also require that the technical experts encourage professional development of program personnel to become increasingly adept at managing the system on their own. The successful partnership will be able to provide research-based evidence that the intervention is using information on child outcomes to improve the early learning environments for Head Start children.

The lessons learned from model partnerships can then be disseminated through training and technical assistance, both through the Head Start network and by other means. Examples of products expected from these partnerships include, but are not limited to: Methodological approaches for sampling, assessment and analysis at the local program level; plans for reporting data to teachers, parents, and management staff; data management systems; integrated curricular and assessment approaches; professional development approaches including coursework and training materials; and plans for disseminating information to the broader Head Start and child development communities.

Cooperative Agreements

For Priority Area 1.01 ACYF is utilizing a cooperative agreement mechanism, a funding mechanism that allows substantial Federal involvement in the activities undertaken with Federal financial support. Details of the responsibilities, relationships and governance of the cooperative agreement will be spelled out in the terms and conditions of the award. The specific responsibilities of the Federal staff and project staff will be identified and agreed upon prior to the award of each cooperative agreement. At a minimum, however, the following roles and responsibilities will characterize the Research Partnerships:

1. Responsibilities of the Grantee

The Grantee

Conducts a local intervention and research project designed to develop, evaluate, refine and assist in dissemination of models to support continuous program improvement through use of child outcome measures.

Cooperates with one or more local Head Start programs in the design, implementation, and evaluation of the intervention.

Participates as a member of the Head Start-University Partnerships Research Consortium with other researchers, program partners, and Federal staff.

2. Responsibilities of the Federal Staff

Federal Staff

Provide guidance in the development of the final study design, including suggestions for possible cross-site measures.

Participate as members of the Research Consortium or any policy, steering, or other working groups established at the Research Consortium level to facilitate accomplishment of the project goals.

Facilitate communication and cooperation among the Research Consortium members.

Provide logistical support to facilitate meetings of the Research Consortium.

Priority Area 1.02: Early Head Start-University Partnerships

In recognition of the importance of the first three years of life, the 1994 Head Start Reauthorization legislation expanded Head Start to serve pregnant women and families with infants and toddlers. From initial funding in 1995 to the 664 programs in operation today, Early Head Start continues the legacy of Head Start in providing comprehensive services to low-income children, families and communities. While programs are flexibly designed to provide services in response to the needs of families in the community, all programs are required to provide home visits, child development, health and nutrition services for young children and pregnant women and to develop family and community partnerships.

Early Head Start also continues the long-standing commitment of Head Start programs to supporting the social and emotional well-being of children. However, programs serving infants and toddlers often struggle to understand the emotional and mental health needs of very young children and their families and how to address these needs. In fact, the relatively young (but growing) field of infant mental health has only recently begun to shed light on the importance of assessing and addressing these needs as well as providing guidance through empirically validated practice. In response to questions from program staff and members of the technical assistance network and at the urging of the Early Head Start Technical Work Group, in October 2000 the Administration on Children, Youth and Families held a national meeting, the Infant Mental Health Forum. For further information see http://www.acf.dhhs.gov/programs/core/ongoing_research/imh/imh_intro.html. The primary goals of the Forum were to address the role of Early Head Start and the Migrant Head Start program along with their community child care partners in promoting infant mental health in all children, preventing problems in at-risk populations, and accessing treatment for those with identified needs. The Forum allowed for the sharing of information from leaders in the field of infant mental health and the sharing of promising practices from four Early Head Start programs.

One of the challenges of the Infant Mental Health Forum was to come to a common definition of the term “infant mental health.” The term itself causes many to feel unease as it links the suffering, maladjustment and stigma associated with mental health to the innocence and newness of infancy. However, others advocate using the term because of the inclusion of the mental health professions as well as an acknowledgement of the suffering that infants can experience. Charles Zeanah, a keynote speaker at the Forum used the following definition: “Infant mental health may be defined as the state of emotional and social competence in young children who are developing appropriately within the interrelated contexts of biology, relationship, and culture.” The definition stresses the developmental appropriateness of behaviors and the relationship context of understanding behaviors and intervention.

The participants in the Forum identified a rationale for addressing the mental health of young children and their parents, principles to guide the work, and suggested action steps in order for programs to be able to more fully address the needs of young children and their families. The forum participants stressed the need to addresses issues of cultural competence, adequacy of available screening and assessment tools, as well as populations with special needs. Several areas of need were highlighted, including program guidance, public awareness, public policy, professional development, reflective supervision, cross-disciplinary collaboration, financing, and research and evaluation. In response to those suggestions, the Head Start Bureau has commissioned the Early Head Start National Resource Center to engage in consensus building, training and dissemination. This announcement builds on the suggestion to conduct research at demonstration sites to identify interventions that are effective in promoting infant mental health and to better understand what works for whom, how and why.

The Early Head Start Research and Evaluation Project has also provided information on the needs of the children and families served as well as areas in which the program is effective. For further information see http://www.acf.dhhs.gov/programs/core/ongoing_research/ehs/ehs—intro.html. When children were two years old, Early Head Start children were functioning significantly better across a range of domains including cognitive, language and social-emotional than children in a randomly assigned control group. There were also significant impacts on parents. For instance, Early Head Start mothers report lower levels of parenting stress and family conflict, read to their children more, provide more enriched home environments, and seem to use less harsh discipline techniques. From observations of parent-child interactions, there is some indication that Early Head Start mothers provide more optimal levels of support and sensitivity, although no differences were observed in child behaviors. However, there was no indication that Early Head Start made a difference in rates of maternal or paternal depression, the one mental illness assessed. Furthermore, although approximately half of the mothers entering Early Head Start scored above the “at-risk for depression” cutoff on a measure of depressive symptoms, Early Head Start families were not more likely to be accessing mental health services than the control group (both approximately 17%). So, while programs are not affecting depression or improving access to mental health services, they may bolster the parent-child relationship and help protect children from the problems associated with parental depression.

Building on the needs identified both by practitioners in Early Head Start and the Early Head Start Research and Evaluation Project, and at the suggestion of the Infant Mental Health Forum participants, this announcement will support the identification of empirically-based interventions that are enhancements to Early Head Start programs, designed to promote the mental health of young children and their families. Each partnership team of one or more Early Head Start grantees and a research organization will identify or further develop a particular, self-selected approach toward enhancing program practices, based on the needs of the population served, which they will then implement along with an evaluation. However, the evaluation shall include aspects of the intervention delivery (services delivered) and program context (structures and supports necessary to implement the intervention) as well as outcomes for children and families and associations between services and outcomes. The evaluation design should be responsive to the nature of the intervention, the state of development of the intervention, the program context, and other factors. Possible designs include (but are not limited to) change over time (pre to post testing), quasi-experimental methods (e.g., non-randomized comparison group), or random assignment. As part of the evaluation, assessment tools that are comfortable (with training) for staff to use and that provide information that is useful for planning and referral must be identified. Staff training may be needed on use of the assessment tools as well as a broader training in the understanding of mental health disorders to aid in recognition of possible problems. During the assessment and implementation process there will certainly be families who need additional and specialized treatments. Partners should also identify protocols for helping those families who need additional services access those services. The ultimate goal for this work is to disseminate identified interventions and measures through training and technical assistance.

Cooperative Agreements

For Priority Area 1.02 ACYF is utilizing a cooperative agreement mechanism, a funding mechanism that allows substantial Federal involvement in the activities undertaken with Federal financial support. Details of the responsibilities, relationships and governance of the cooperative agreement will be spelled out in the terms and conditions of the award. The specific responsibilities of the Federal staff and project staff will be identified and agreed upon prior to the award of each cooperative agreement. At a minimum, however, the following roles and responsibilities will characterize the Research Partnerships:

1. Responsibilities of the Grantee

The Grantee

Conducts a local intervention and research project designed to implement, evaluate, refine and assist in dissemination of interventions to support the mental health of infants/toddlers and their families.

Uses common assessment battery to be determined by Early Head Start University Partnerships Research Consortium (consisting of Research Grantees, program partners, and Federal staff). Grantees are also encouraged to use site-specific measures as well.

Cooperates with one or more local Early Head Start programs in the design, implementation, and evaluation of the intervention.

Participates as a member of the Early Head Start University Partnerships Research Consortium with other researchers, program partners, and Federal staff.

2. Responsibilities of the Federal Staff

Federal Staff

Provide guidance in the development of the final study design, including suggestions for possible cross-site measures.

Participate as members of the Consortium or any policy, steering, or other working groups established by the consortium to facilitate accomplishment of the project goals.

Facilitate communication and cooperation among the Consortium members.

Provide logistical support to facilitate meetings of the Consortium.

Priority Area 1.03: Head Start Graduate Student Grants

Since 1991, the Head Start Bureau has explicitly supported the relationship between established Head Start researchers and their graduate students by awarding research grants, on behalf of specific graduate students, to conduct research in Head Start communities. As many previously funded Head Start graduate students have continued to make significant contributions to the early childhood research field as they have pursued their careers, this funding mechanism is an important research capacity-building effort. Mentor-student relationships will help foster the intellectual and professional development of the next generation of researchers who will advance the scientific knowledge base needed to improve services for Head Start children and families.

To ensure that future research is responsive to the changing needs of low-income families, graduate students need strong and positive role models. Therefore, Head Start's support of the partnership between students and their mentors is essential. The unique partnership that is forged between mentor and student, within the Head Start research context, serves as a model for the establishment of other partnerships within the community (e.g., researcher-Head Start staff, researcher-family). This foundation helps foster the skills necessary to build a graduate student's trajectory of successful partnership-building and contributions to the scientific community. Within this nurturing and supportive relationship, young researchers are empowered to become autonomous researchers, learning both theory as well as the process of interacting with the various members and relevant organizations within their communities. In an ever-changing, dynamic society, graduate student researchers need to be flexible in adapting to the changing needs of the diverse populations and communities. The mentoring relationship serves to support graduate students as they actively engage in this learning process, preparing them to be exemplary and responsible research scientists in the community.

Thus, the goals of the Head Start Graduate Student Research Grant program can be summarized as follows:

1. Provide direct support for graduate students as a way of encouraging the conduct of research with Head Start populations, thus contributing to the knowledge base about the best approaches for delivering services to diverse, low-income families and their children;

2. Promote mentor-student relationships which support students' graduate training and professional development as young researchers engaged in policy-relevant, applied research;

3. Emphasize the importance of developing true working partnerships with Head Start programs and other relevant entities within the community, thereby fostering skills necessary to build a student's trajectory of successful partnership-building and contributions to the scientific community; and

4. Support the active communication, networking and collaboration among graduate students, their mentors and other prominent researchers in the field, both during their graduate training, as well as into the early stages of their research careers.

While the specific topics addressed under these Graduate Student Research Grants are intended to be field-initiated, applicants who address issues of both local and national significance will be most likely to succeed. Some illustrative examples of such topics include, but are not limited to the areas of school readiness, children's mental health, and strengthening fatherhood and healthy marriages in Head Start.

Unlike the first two priority areas of this announcement, awards for Priority Area 1.03 will be funded as research grants rather than as cooperative agreements.

Part II. Priority Areas

Statutory Authority

The Head Start Act, as amended, 42 U.S.C. 9801 et seq.

CFDA: 93.600

Priority Area 1.01: Head Start-University Partnerships Research Projects

Eligible Applicants: Universities, four-year colleges, and non-profit institutions on behalf of researchers who hold a doctoral degree or equivalent in their respective fields. Faith-based organizations are also eligible to apply.

Additional Requirements

• The principal investigator must have a doctorate or equivalent degree in the respective field, conduct research as a primary professional responsibility, and have published or have been accepted for publication in the major peer-reviewed research journals in the field as a first author or second author.

• The proposed intervention plan must be responsive to the goal of supporting continuous program improvement through use of child outcome data.

• The proposed evaluation plan should specify which measures of implementation quality and standardized assessments of child development outcomes are to be used.

• The applicant must apply the University's or nonprofit institution's off-campus research rates for indirect costs.

• The applicant must enter into a partnership with a Head Start program for the purposes of conducting the research.

• The application must contain a letter from the Head Start program certifying that they have entered into a partnership with the applicant and the application has been reviewed and approved by the Policy Council.

• The principal investigator must agree to attend two meetings each year in Washington, DC, including Head Start's National Research Conference in the summer of 2004.

• The budget should reflect travel funds for such purposes.

• Contact information, including an e-mail address, for the principal investigator must be included in the application.

Project Duration: The announcement is soliciting applications for project periods of up to four years. Awards, on a competitive basis, will be for the first one-year budget period. Applications for continuation of cooperative agreements funded under these awards beyond the one-year budget period, but within the established project period, will be entertained in subsequent years on a non-competitive basis, subject to availability of funds, satisfactory progress of the grantee and a determination that continued funding would be in the best interest of the Government.

Federal Share of Project Costs: The Federal share of project costs shall not exceed $200,000 for the first 12-month budget period inclusive of indirect costs and shall not exceed $200,000 per year for the second through fourth 12-month budget periods.

Matching Requirement: There is no matching requirement.

Anticipated Number of Projects to be Funded: It is anticipated that 4-6 projects will be funded.

Priority Area 1.02 Early Head Start-University Partnership Research Projects

Eligible Applicants: Universities, four-year colleges, and non-profit institutions on behalf of researchers who hold a doctoral degree or equivalent in their respective fields. Faith-based organizations are also eligible to apply.

Additional Requirements

1. The principal investigator must have a doctorate or equivalent degree in the respective field, conduct research as a primary professional responsibility, and have published or have been accepted for publication in the major peer-reviewed research journals in the field as a first author or second author.

2. The proposed intervention plan must be responsive to the goal of supporting the development of infant-toddler mental health in Early Head Start programs. The proposal should address the following intervention questions: What is the theoretical justification for the intervention? Is the intervention universal or selective? If selective, how will participants be identified? What is expected to be the preliminary evidence that the intervention is successful? What are the expected outcomes (benefits) for children and families? What are the mediating and moderating variables that are expected to influence these outcomes (logic model or theory of change)? How will the mediating and moderating variables and outcomes be measured? How will the age of child, gender, disability and other key child characteristics as well as family characteristics such as language and culture be addressed?

3. The proposal should specify the plan to measure implementation quality. The proposal should address how the following questions regarding intervention delivery will be assessed: How does the intervention deviate from existing procedures in the site? What are the specific services received by the child/family? Who gets what, from whom, and how much? To what extent is the intervention individualized? Who is most and least likely to participate? How are specific services linked with child and family outcomes? What are the barriers to implementation and how are challenges resolved?

4. The proposal should specify how the intervention will be documented. The proposal should address how the following will be assessed: To what extent can procedures be documented and manualized? What are the structures and supports necessary to implement the intervention? What is the level of education, training and supervision that is required of intervention staff? What are key activities that are conducted to include or gain support from community stakeholders, program administers, policy councils, program staff including teachers, home visitors and others, as well as parents and families? What are contextual variables that might influence how the intervention is implemented (e.g., community factors such as culture, levels of poverty, available resources, etc.).

5. The proposal should specify what assessments of child outcomes are to be used and address how program staff will be trained to administer assessments.

6 .The applicant must apply the University's or nonprofit institution's off-campus research rates for indirect costs.

7. The applicant must enter into a partnership with an Early Head Start program for the purposes of conducting the research.

8. The application must contain a letter from the Early Head Start program certifying that they have entered into a partnership with the applicant and the application has been reviewed and approved by the Policy Council.

9. The principal investigator must agree to attend two meetings each year in Washington, DC, including Head Start's National Research Conference in the summer of 2004.

10. The budget should reflect travel funds for such purposes.

11. Contact information, including an e-mail address, for the principal investigator must be included in the application.

Project Duration: The announcement is soliciting applications for project periods of up to four years. Awards, on a competitive basis, will be for the first one-year budget period. Applications for continuation of cooperative agreements funded under these awards beyond the one-year budget period, but within the established project period, will be entertained in subsequent years on a non-competitive basis, subject to availability of funds, satisfactory progress of the grantee and a determination that continued funding would be in the best interest of the Government.

Federal Share of Project Costs: The Federal share of project costs shall not exceed $200,000 for the first 12-month budget period inclusive of indirect costs and shall not exceed $200,000 per year for the second through fourth 12-month budget periods.

Matching Requirement: There is no matching requirement.

Anticipated Number of Projects to be Funded: It is anticipated that 4-6 projects will be funded.

Priority Area 1.03 Head Start Graduate Student Grants

Eligible Applicants: Institutions of higher education on behalf of doctoral-level graduate students. Doctoral students must have completed their Master's Degree or equivalent in that field and submitted formal notification to ACYF by August 15, 2002. Faith-based organizations are also eligible to apply.

To be eligible to administer the grant on behalf of the student, the institution must be fully accredited by one of the regional accrediting commissions recognized by the Department of Education and the Council on Post-Secondary Accreditation. Although the faculty mentor is listed as the Principal Investigator, this grant is intended for dissertation research for an individual student. Information about both the graduate student and the student's faculty mentor is required as part of this application. Any resultant grant award is not transferable to another student. The award may not be divided between two or more students.

Additional Requirements

• A university faculty member must serve as a mentor to the graduate student; this faculty member is listed as the “Principal Investigator.” The application must include a letter from this faculty member stating that s/he has reviewed and approved the application, the status of the project as dissertation research, the student's status in the doctoral program, and a description of how the faculty member will regularly monitor the student's work.

• The research project must be an independent study conducted by the individual graduate student or well-defined portions of a larger study currently being conducted by a faculty member. The graduate student must have primary responsibility for the study described in the application.

• The graduate student must enter into a partnership with a Head Start or Early Head Start program for the purposes of conducting the research.

• The application must contain (A) a letter from the Head Start or Early Head Start program certifying that they have entered into a partnership with the applicant and (B) a letter certifying that the application has been reviewed and approved by the Policy Council.

• The graduate student applicant must agree to attend two meetings each year of the grant. The first meeting consists of the annual meeting for all Head Start Graduate Students. This grantee meeting is typically scheduled during the Summer or Fall of each year and is held in Washington, DC. The second meeting each year consists of the Biennial Head Start National Research Conference in Washington, DC (in June or July 2004) or the biennial meeting of the Society for Research in Child Development-SRCD (in April, 2003). The budget should reflect travel funds for the graduate student for each of these 4 meetings.

• Given the strong emphasis that is placed on supporting the mentor-student relationship, the faculty mentors are strongly encouraged to attend and participate in the activities of the annual grantee meeting for all Head Start Graduate Students. The budget should reflect travel funds for such purposes, as appropriate. However, if the faculty mentor does plan to attend the annual Graduate Student grantee meeting, but will utilize another source of travel funds, such arrangements should be noted in the application.

• Due to the small amount of the grant, the applicant is strongly encouraged to waive indirect costs.

• Contact information, including an e-mail address, for both the graduate student applicant and faculty mentor must be included in the application.

• The graduate student must write the application.

Project Duration: The announcement for priority area 1.03 is soliciting applications for project periods up to two years. Awards, on a competitive basis, will be for a one-year budget period, although project periods may be for two years. It should be noted, that if the graduate student, on whose behalf the University is applying, expects to receive his/her degree by the end of the first one-year budget period, the applicant should request a one-year project period only. A second year budget-period will not be granted if the student has graduated by the end of the first year. Applications for continuation grants funded under these awards beyond the one-year budget period, but within the two-year project period, will be entertained in the subsequent year on a non-competitive basis, subject to availability of funds, satisfactory progress of the grantee and a determination that continued funding would be in the best interest of the Government.

Federal Share of Project Costs: The maximum Federal share will range between $10,000-$20,000 for the first 12-month budget period or a maximum of $40,000 for a 2-year project period.

Matching Requirement: There is no matching requirement.

Anticipated Number of Projects to be Funded: It is anticipated that between 5 and 10 projects will be funded. It is unlikely that any individual university will be funded for more than one graduate student research grant if there are at least 10 applications from different institutions that qualify for support.

Part III. General Instructions for All Priority Areas

Project Description

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Results or Benefits Expected

Identify the results and benefits to be derived. For example, using a comprehensive review of the current literature, justify how the research questions and the findings will add new knowledge to the field and specifically how the project will improve services for children and families.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative quarterly projections of the accomplishments to be achieved for each function or activity in such terms as the proportion of data collection expected to be completed. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Additional Information

Following are requests for additional information that need to be included in the application.

Staff and Position Data. Provide a biographical sketch for each key person appointed and a job description for each vacant key position. A biographical sketch will also be required for new key staff as appointed.

Organization Profiles.

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Dissemination Plan. Provide a plan for distributing reports and other project outputs to colleagues and the public. Applicants must provide a description of the kind, volume and timing of distribution.

Budget and Budget Justification. Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF cooperative agreement or grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, cooperative agreement or grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information that supports the amount requested.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the cooperative agreement or grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the cooperative agreement or grant. Also, if the applicant is requesting a rate which is less than what is allowed under the program, the authorized representative of the applicant organization must submit a signed acknowledgement that the applicant is accepting a lower rate than allowed.

Total Direct Charges, Total Indirect Charges, Total Project Costs

[Self explanatory]

Part IV. Competitive Criteria for Reviewers

A. Criteria for Priority Area 1.01: Head Start-University Partnerships

Reviewers will consider the following factors when assigning points.

1. Results or Benefits Expected 20 Points

• The research questions are clearly stated.

• The extent to which the questions are of importance and relevance for low-income children's development and welfare.

• The extent to which the research study makes a significant contribution to the knowledge base.

• The extent to which the literature review is current and comprehensive and supports the need for the intervention and for its evaluation, the questions to be addressed or the hypotheses to be tested.

• The extent to which the questions that will be addressed or the hypotheses that will be tested are sufficient for meeting the stated objectives.

• The extent to which the proposal contains a dissemination plan that encompasses both professional and practitioner-oriented products.

2. Approach 45 Points

• The extent to which the intervention is adequately described, responsive to the key questions outlined in the background section above, and represents a research-based, cost effective model that meets the goal of using child outcomes data to support program improvement.

• The extent to which the research design is appropriate and sufficient for addressing the questions of the study.

• The extent to which child outcomes in the comprehensive domains of school readiness are the major focus of the study.

• The extent to which the planned research specifies the measures to be used, their psychometric properties, and the proposed analyses to be conducted.

• The extent to which the planned measures are appropriate and sufficient for the questions of the study and the population to be studied.

• The extent to which the planned measures and analyses both reflect knowledge and use of state-of-the-art measures and analytic techniques and advance the state-of-the art.

• The extent to which the analytic techniques are appropriate for the question under consideration.

• The extent to which the proposed sample size is sufficient for the study.

• The scope of the project is reasonable for the funds available for these cooperative agreements.

• The extent to which the planned approach reflects sufficient input from and partnership with the Head Start program.

• The extent to which the planned approach includes techniques for successful transfer of the intervention and research to an additional site or sites.

• The extent to which the budget and budget justification are appropriate for carrying out the proposed project.

3. Staff and Position Data 35 Points

• The extent to which the principal investigator and other key research staff possess the research expertise necessary to conduct the study as demonstrated in the application and information contained in their vitae.

• The principal investigator(s) has earned a doctorate or equivalent in the relevant field and has first or second author publications in major research journals.

• The extent to which the proposed staff reflect an understanding of and sensitivity to the issues of working in a community setting and in partnership with Head Start program staff and parents.

• The adequacy of the time devoted to this project by the principal investigator and other key staff in order to ensure a high level of professional input and attention.

B. Criteria for Priority Area 1.0-2: Early Head Start-University Partnerships

Reviewers will consider the following factors when assigning points.

1. Results or Benefits Expected 20 Points

• The research questions are clearly stated.

• The extent to which the proposed intervention is justified as meeting the needs of low-income children and families.

• The extent to which the research study makes a significant contribution to the knowledge base about supporting the mental health of low-income infants and toddlers and their families.

• The extent to which the literature review is current and comprehensive and justifies the intervention and evaluation plan. The extent to which the questions that will be addressed or the hypotheses that will be tested are sufficient for meeting the stated objectives.

• The extent to which the proposal contains a dissemination plan that encompasses both professional and practitioner-oriented products.

2. Approach 45 Points

• The extent to which the intervention is adequately described and represents a research-based, cost effective quality program enhancement that meets the goal of supporting the mental health of children in Early Head Start.

• The extent to which the proposal is responsive to the questions outlined in the additional requirements section (especially items 2-5).

• The extent to which the research design is appropriate and sufficient for addressing the questions of the study (i.e., evaluation includes aspects of the intervention delivery (services delivered) and program context (structures and supports necessary to implement the intervention) as well as outcomes for children and families and associations between services and outcomes).

• The extent to which program-usable measures particularly of child functioning, are the major focus of the evaluation.

• The extent to which the planned research specifies the measures to be used, their psychometric properties, and the analyses to be conducted.

• The extent to which the planned measures are appropriate and sufficient for the questions of the study and the population to be studied.

• The extent to which the planned measures and analyses both reflect knowledge and use of state-of-the-art measures and analytic techniques and advance the state-of-the art.

• The extent to which the analytic techniques are appropriate for the question under consideration.

• The extent to which the proposed sample size is sufficient for the study.

• The scope of the project is reasonable for the funds available for these cooperative agreements.

• The extent to which the planned approach reflects sufficient input from and partnership with the Early Head Start program.

• The extent to which the planned approach includes techniques for successful documentation and dissemination.

• The extent to which the budget and budget justification are appropriate for carrying out the proposed project.

3. Staff and Position Data 35 Points

• The extent to which the principal investigator and other key research staff possess the research expertise necessary to implement the intervention and conduct the evaluation as demonstrated in the application and information contained in their vitae.

• The principal investigator(s) has earned a doctorate or equivalent in the relevant field and has first or second author publications in major research journals.

• The extent to which the proposed staff reflect an understanding of and sensitivity to the issues of working in a community setting and in partnership with Early Head Start program staff and parents.

• The adequacy of the time devoted to this project by the principal investigator and other key staff in order to ensure a high level of professional input and attention.

C. Criteria for Priority Area 1.03: Head Start Graduate Student Grants

Reviewers will consider the following factors when assigning points.

1. Results or Benefits Expected 25 Points

• The research questions are clearly stated.

• The extent to which the questions are of importance and relevance for low-income children's development and welfare.

• The extent to which the research study makes a significant contribution to the knowledge base.

• The extent to which the literature review is current and comprehensive and supports the need for the study.

• The extent to which the questions that will be addressed or the hypotheses that will be tested are sufficient for meeting the stated objectives.

• The extent to which the proposed project is appropriate to the student's level of ability and the stated time frame for completing the project.

2. Approach 40 Points

• The extent to which there is a discrete project designed by the graduate student. If the proposed project is part of a larger study designed by others, the approach section should clearly delineate the research component to be carried out by the student.

• The extent to which the research design is appropriate and sufficient for addressing the questions of the study.

• The extent to which the planned research specifies the measures to be used, their psychometric properties, and the proposed analyses to be conducted.

• The extent to which the planned measures have been shown to be appropriate and sufficient for the questions of the study, and the population to be studied.

• The extent to which the planned measures and analyses both reflect knowledge and use of state-of-the-art measures and analytic techniques, and advance the state-of-the art, as appropriate.

• The extent to which the analytic techniques are appropriate for the question under consideration.

• The extent to which the proposed sample size is sufficient to answer the range of proposed research questions for the study.

• The scope of the project is reasonable for the funds available and feasible for the time frame specified.

• The extent to which the planned approach reflects sufficient written input from and partnership with the Head Start program.

• The extent to which the budget and budget justification are appropriate for carrying out the proposed project.

3. Staff and Position Data 35 Points

• The extent to which the faculty mentor and graduate student possess the research expertise necessary to conduct the study as demonstrated in the application and information contained in their vitae.

• The principal investigator/faculty mentor has earned a doctorate or equivalent in the relevant field and has first or second author publications in major research journals.

• The extent to which the faculty mentor and graduate student reflect an understanding of and sensitivity to the issues of working in a community setting and in partnership with Head Start program staff and parents.

• The adequacy of the time devoted to this project by the faculty mentor for mentoring the graduate student. The proposal should include evidence of the faculty mentor's commitment to mentoring the individual graduate student, and as appropriate, willingness to serve as a resource to the broader group of Head Start Graduate Students funded under this award.

D. The Review Process

Applications received by the due date will be reviewed and scored competitively. Experts in the field, generally persons from outside the Federal government, will use the evaluation criteria listed in Part IV of this announcement to review and score the applications, also taking into account responsiveness to other aspects of the announcement. The results of this review are a primary factor in making funding decisions. ACF may also solicit comments from ACF Regional Office staff and other Federal agencies. These comments, along with those of the expert reviewers, will be considered in making funding decisions. In selecting successful applicants, consideration may be given to other factors including but not limited to geographical distribution.

Part V. Instructions for Submitting Applications

A. Availability of Forms

Eligible applicants interested in applying for funds must submit a complete application including the required forms. In order to be considered for a cooperative agreement or grant under this announcement, an application must be submitted on the Standard Form 424 (approved by the Office of Management and Budget under Control Number 0348-0043). Each application must be signed by an individual authorized to act for the applicant and to assume responsibility for the obligations imposed by the terms and conditions of the cooperative agreement or grant award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within Pub. L. 103-227, Part C Environmental Tobacco Smoke (also known as The Pro-Children's Act of 1994). A copy of the Federal Register notice which implements the smoking prohibition is included with the forms. By signing and submitting the application, applicants are providing the certification and need not mail back the certification with the application.

Depending on the activities that are funded under this announcement, it is possible that the grantee institution may as a result of conducting the project have obligations or be impacted by the Health Insurance Portability and Accountability Act of 1996 (Pub.L. 104-191).

Applicants will be covered by the terms of the Head Start Act (42 U.S.C. 9801 et seq.) including section 649(f) that ensures that “all studies, reports, proposals, and data produced or developed with Federal funds under this subchapter shall become the property of the United States.”

All applicants for research projects must provide a Protection of Human Subjects Assurance as specified in the policy described on the HHS Form 596 (approved by the Office of Management and Budget under control number 0925-0418). If there is a question regarding the applicability of this assurance, contact the Office for Protection from Research Risks of the National Institutes of Health at (301)-496-7041. Those applying for or currently conducting research projects are further advised of the availability of a Certificate of Confidentiality through the National Institute of Mental Health of the Department of Health and Human Services. To obtain more information and to apply for a Certificate of Confidentiality, contact the Division of Extramural Activities of the National Institute of Mental Health at (301) 443-4673. All necessary forms are available on the ACF Web site at http://www.acf.dhhs.gov/programs/ofs/grants/form.htm

B. Proposal Limits

The proposal should be double-spaced and single-sided on 8 ½″ x 11″ plain white paper, with 1” margins on all sides. Use only a standard size font no smaller than 12 pitch throughout the proposal. All pages of the proposal (including appendices, resumes, charts, references/footnotes, tables, maps and exhibits) must be sequentially numbered, beginning on the first page after the budget justification, the principal investigator contact information and the Table of Contents. The length of the proposal starting with page 1 as described above and including appendices and resumes must not exceed 60 pages. Anything over 60 pages will be removed and not considered by the reviewers. The project abstract should not be counted in the 60 pages. Applicants should not submit reproductions of larger sized paper that is reduced to meet the size requirement. Applicants are requested not to send pamphlets, brochures, or other printed material along with their applications as these pose copying difficulties. These materials, if submitted, will not be included in the review process. In addition, applicants must not submit any additional letters of endorsement beyond any that may be required.

Applicants are encouraged to submit curriculum vitae using “Biographical Sketch” forms used by some government agencies.

Please note that applicants that do not comply with the requirements in the section on “Eligible Applicants” will not be included in the review process.

C. Checklist for a Complete Application

The checklist below is for your use to ensure that the application package has been properly prepared.

—One original, signed and dated application plus six copies.

—Attachments/Appendices, when included, should be used only to provide supporting documentation such as resumes, and letters of agreement/support.

A complete application consists of the following items in this order:

Front Matter:

• Cover Letter

• Table of Contents

• Principal Investigator including telephone number, fax number and e-mail address.

• Project Abstract

(1) Application for Federal Assistance (SF 424, REV. 4-92);

(2) Budget information-Non-Construction Programs (SF424A&B REV.4-92);

(3) Budget Justification, including subcontract agency budgets;

(4) Letters (A) from the Head Start program certifying that the program is a research partner of the respective applicant and (B) that the Policy Council has reviewed and approved the application;

(5) Application Narrative and Appendices (not to exceed 60 pages);

(6) Proof of non-profit status. Any non-profit organization submitting an application must submit proof of its non-profit status in its application at the time of submission. The non-profit organization can accomplish this by providing a copy of the applicant's listing in the Internal Revenue Service's (IRS) most recent list of tax-exempt organizations described in section 501(c)(3) of the IRS code or by providing a copy of the currently valid IRS tax exemption certificate, or by providing a copy of the articles of incorporation bearing the seal of incorporation of the State in which the corporation or association is domiciled.

(7) Assurances Non-Construction Programs;

(8) Certification Regarding Lobbying;

(9) Where appropriate, a completed SPOC certification with the date of SPOC contact entered in line 16, page 1 of the SF 424, REV.4-92;

(10) Certification of Protection of Human Subjects.

D. Due Date for the Receipt of Applications

1. Deadline: The closing time and date for receipt of applications is 5 p.m. (Eastern Time Zone) (May 3, 2002.). Mailed applications shall be considered as meeting an announced deadline if they are received on or before the deadline time and date at: Head Start Research Support Team, 1749 Old Meadow Road, Suite 600, McLean, VA 22102. (1-877) 663-0250. E-mail hsr@xtria.com.

Attention:

Application for Head Start-University Partnerships, or Application for Early Head Start-University Partnerships, or Application for Head Start Graduate Student Grants, as appropriate

Applicants are responsible for mailing applications well in advance, when using all mail services, to ensure that the applications are received on or before the deadline time and date.

Applications hand carried by applicants, applicant couriers, or by overnight/express mail couriers shall be considered as meeting an announced deadline if they are received on or before the deadline date, between the hours of 8 a.m. and 5 p.m., Monday-Friday (excluding holidays) at the address above. (Applicants are cautioned that express/overnight mail services do not always deliver as agreed.)

ACF cannot accommodate transmission of applications by fax or e-mail. Therefore, applications faxed or e-mailed to ACF will not be accepted regardless of date or time of submission and time of receipt.

2. Late applications: Applications which do not meet the criteria above are considered late applications. ACF shall notify each late applicant that its application will not be considered in the current competition.

3. Extension of deadlines: ACF may extend an application deadline when justified by circumstances such as acts of God (e.g., floods or hurricanes), widespread disruptions of mail service, or other disruptions of services, such as a prolonged blackout, that affect the public at large. A determination to waive or extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under the following current valid OMB control numbers: 0348-0043, 0348-0044, 0348-0040, 0348-0046, 0925-0418 and 0970-0139.

Public reporting burden for this collection is estimated to average 40 hours per response, including the time for reviewing instructions, gathering and maintaining the data needed and reviewing the collection of information.

The project description is approved under OMB control number 0970-0139 which expires 12/31/2003.

An agency may not conduct or sponsor, and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

* All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When SPOC comments are submitted directly to ACF, they should be addressed to: William Wilson, ACYF's Office of Grants Management, Room 2220 Switzer Building, 330 C Street SW., Washington, DC 20447, Attn: Head Start Discretionary Research Grants Announcement. A list of the Single Points of Contact for each State and Territory can be found on the Web site http://www.whitehouse.gov/omb/grants/spoc.html

Dated: February 26, 2002.
Joan E. Ohl,
Commissioner, Administration on Children, Youth and Families.

[FR Doc. 02-5088 Filed 3-1-02; 8:45 am]

BILLING CODE 4184-01-P